DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: 19 & 20 March 2002.

Time(s) of Meeting: 0830-1700, 19 March 2002, 0800-1600, 20 March 2002.

Place: Institute of Defense Analysis.

1. Agenda: The Operations and Training Panel, Army Science Board FY02 Summer Study on “Affordability of the Objective Force” is holding a meeting on 19-20 March 2002. The meeting will be held at the Institute for Defense Analysis' new building (4850 Mark Center Drive). The meeting will begin at 0830hrs on the 19th and will end at approximately 1600hrs on the 20th. For further information, please contact Maj. Coll S. Haddon—757-878-4694 or e-mail HaddonC@atsc.army.mil.

Wayne Joyner,
Program Support Specialist, Army Science Board.

[FR Doc. 02-6342 Filed 3-15-02; 8:45 am]

BILLING CODE 3710-08-M